DEPARTMENT OF JUSTICE

Notice of Lodging of a Consent Decree Under the Clean Water Act

Notice is hereby given that on September 6, 2011, a proposed Consent Decree in United States and State of Indiana v. City of Elkhart, Indiana, Civil Action No. 2:11CV328 was lodged with the United States District Court for the Northern District of Indiana.

In this case, the United States and the State of Indiana (Indiana) seek civil penalties and injunctive relief for violations of the Clean Water Act, 33 U.S.C. 1251 et seq., Title 13 of the Indiana Code, Title 327 of the Indiana Administrative Code, and certain terms and conditions of National Pollution Discharge Elimination System permits that Indiana issued to the City of Elkhart (Elkhart) for the relevant time periods, related to alleged discharges of untreated sewage from Elkhart's combined sewer collection system, i.e. “combined sewer overflows,” during wet weather events, and some dry weather time periods, into “waters of the United States” and “waters of the state.”

The proposed Consent Decree would require Elkhart to reduce its combined sewer overflows by comprehensively upgrading and expanding its sewage collection, storage, conveyance, and treatment system, at a cost of approximately $155.6 million in 2007 dollars. Elkhart must complete these improvements by December 31, 2029 or, if Elkhart demonstrates financial hardship, by July 1, 2033. Additionally, the proposed Decree requires Elkhart to pay a total civil penalty of $87,000 split equally between the United States and the State of Indiana.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States and State of Indiana v. City of Elkhart, Indiana, D.J. Ref. 90-5-1-1-08202.

The proposed Consent Decree may be examined at the Office of the United States Attorney, Northern District of Indiana, 5400 Federal Plaza, Suite 1500, Hammond, IN 46320 (contact Assistant United States Attorney Wayne Ault (219-937-5650)), and at U.S. Environmental Protection Agency, Region 5, 77 West Jackson Boulevard, Chicago, IL 60604-3590 (contact Associate Regional Counsel Kathleen Schnieders (312-353-8912)). During the public comment period, the proposed Consent Decree may also be examined on the following Department of Justice Web site: http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $20.75 (25 cents per page reproduction cost) payable to the U.S. Treasury or, if by e-mail or fax, forward a check in that amount to the Consent Decree Library at the stated address.

Maureen Katz .
Assistant Chief, Environmental Enforcement Section, Environment and Natural Resources Division.

[FR Doc. 2011-23234 Filed 9-9-11; 8:45 am]

BILLING CODE 4410-15-P